DEPARTMENT OF DEFENSE

Department of the Army

Availability for Non-Exclusive, Exclusive, or Partially Exclusively Licensing of U.S. Patent Application Concerning Substituted Aromatic Compounds for Treatment of Antibiotic Resistant Infections

AGENCY: U.S. Army Medical Research and Materiel Command, DOD.

ACTION: Notice.

SUMMARY: In accordance with 37 CFR 404.6, announcement is made of the availability for licensing of U.S. Patent Application Serial No. 09/275,878 entitled “Substituted Aromatic Compounds for Treatment of Antibiotic Resistant Infections”, filed March 25, 1999. Foreign rights are also available. This patent application has been assigned to the United States Government as represented by the Secretary of the Army.

ADDRESSES: Commander, U.S. Army Medical Research and Materiel Command, ATTN: Command Judge Advocate, MCMR-JA, 504 Scott Street, Fort Detrick, Frederick, Maryland 21702-5012.

FOR FURTHER INFORMATION CONTACT: For patent issues, Ms. Elizabeth Arwine, Patent Attorney, (301) 619-7808. For licensing issues, Dr. Paul Mele, Office of Research & Technology Assessment, (301) 619-6664. Both at telefax (301) 619-5034.

SUPPLEMENTARY INFORMATION: This invention relates to compounds useful for treating patients suffering from infections including gram positive organisms, such as streptococcus, staphylococcus, anthracis, gram negative bacteria such as neisseria species, yeasts and mycobacterium. They are effective against strains which have shown resistance to other antimicrobial agents.

Luz D. Ortiz,
Army Federal Register Liaison Officer.

[FR Doc. 01-24358 Filed 9-27-01; 8:45 am]

BILLING CODE 3710-08-M